Proclamation 8094 of December 28, 2006

National Day of Mourning for Gerald R. Ford

By the President of the United States of America

A Proclamation

As a further mark of respect to the memory of Gerald R. Ford, the thirty-eighth President of the United States,

NOW, THEREFORE, I, GEORGE W. BUSH, President of the United States of America, by the authority vested in me by the Constitution and laws of the United States, in honor and tribute to the memory of Gerald R. Ford, and as an expression of public sorrow, do appoint Tuesday, January 2, 2007, as a National Day of Mourning throughout the United States. I call on the American people to assemble on that day in their respective places of worship, there to pay homage to the memory of President Ford. I invite the people of the world who share our grief to join us in this solemn observance.

IN WITNESS WHEREOF, I have hereunto set my hand this twenty-eighth day of December in the year of our Lord two thousand six, and of the Independence of the United States of America the two hundred and thirty-first.

[FR Doc. 06-9992

Filed 1-3-07; 8:45 am]

Billing code 3195-01-P